DEPARTMENT OF HEALTH AND HUMAN SERVICES

Office of the Secretary

Findings of Research Misconduct

AGENCY: Office of the Secretary, HHS.

ACTION: Notice.

SUMMARY: A finding of research misconduct has been made against Ryan Evanoff (Respondent), former Scientific Assistant, Department of Veterinary Microbiology and Pathology, Washington State University. Respondent engaged in research misconduct under 42 CFR part 93 in research funded by the U.S. Public Health Service (PHS), specifically National Institute of Allergy and Infectious Diseases (NIAID), National Institutes of Health (NIH), grant R21 AI126304. An administrative action, specifically debarment for a period of three (3) years, was implemented and is detailed below.

FOR FURTHER INFORMATION CONTACT: Sheila R. Garrity, JD, MPH, MBA, Director, Office of Research Integrity, 1101 Wootton Parkway, Suite 240, Rockville, MD 20852, (240) 453-8200.

SUPPLEMENTARY INFORMATION: Notice is hereby given that the Office of Research Integrity (ORI) and the Suspension and Debarment Official (SDO) have taken final action in the following case:

Ryan Evanoff, Washington State University (WSU): Based on the preponderance of the evidence from the WSU investigation and obtained by ORI in its oversight review, ORI found that Mr. Evanoff, former Scientific Assistant, Department of Veterinary Microbiology and Pathology, WSU, engaged in research misconduct under 42 CFR part 93 in research funded by PHS, specifically NIAID, NIH, grant R21 AI126304.

ORI found by a preponderance of the evidence that Respondent intentionally and knowingly falsified and/or fabricated the following DNA sequences reported in research records, each of which purports to include data from a different sequencing reaction: pC-293_pcDNAF_CZ3082_1.seq, pC-293_pcDNAR_CZ3083_2.seq, pQ-293_pQEfPR_CZ3084_3.seq, pQ-293_pQErev_CZ3085_4.seq, pQ-CD81_pQEfPR_CZ3086_1.seq, and pQ-CD81_pQErev_CZ3087_2.seq.

Based on the information in the administrative record, the HHS SDO proposed debarment under 2 CFR 180.800(b)(1)—“Violation of the terms of a public agreement or transaction so serious as to affect the integrity of a Federal agency program, such as willful failure to perform in accordance with the terms of one or more public agreements or transactions;” and 2 CFR 180.800(d)—“Any other cause that is so serious or compelling in nature that it affects your present responsibility” to protect the Federal Government's interest.

HHS provided Respondent the opportunity to contest the proposed debarment under 42 CFR part 93 by requesting a hearing before an administrative law judge with the HHS Departmental Appeals Board or alternatively, in lieu of requesting a hearing, to contest under 2 CFR part 180. Respondent did not contest within the prescribed 30-day period. Accordingly, the following administrative action has been implemented:

• For a period of three (3) years, beginning on June 16, 2025, Respondent is debarred from participating in “covered transactions” as defined in 42 CFR § 180.200 and procurement transactions covered under the Federal Acquisition Regulation (48 CFR chapter 1).

Dated: August 8, 2025.
Sheila R. Garrity,
Director, Office of Research Integrity, Office of the Assistant Secretary for Health.

[FR Doc. 2025-15283 Filed 8-11-25; 8:45 am]

BILLING CODE 4150-31-P